DEPARTMENT OF COMMERCE

International Trade Administration

Announcement of Performance Review Board Members

AGENCY: International Trade Administration, Department of Commerce.

ACTION: Notice of Performance Review Board Membership.

SUMMARY: 5 CFR 430.310 requires agencies to publish notice of Performance Review Board appointees in the Federal Register before their service begins. This notice announces the names of new and existing members of the International Trade Administration's Performance Review Board.

FOR FURTHER INFORMATION CONTACT: Mary Fleming, International Trade Administration, Office of Human Resources Management, at (202) 482-2274, Room 7417, Washington, DC 20230.

SUPPLEMENTARY INFORMATION: The purpose of the Performance Review Board is to review and make recommendations to the appointing authority on performance management issues such as appraisals, bonuses, pay level increases, and Presidential Rank Awards for members of the Senior Executive Service.

The Acting Under Secretary for International Trade, Michelle O'Neill, has named the following members of the International Trade Administration Performance Review Board:

1. Patricia A. Sefcik, Senior Director for Manufacturing, Chairperson.

2. Barbara E. Tillman, Senior Director.

3. Seward L. Jones Jr., Deputy Assistant Secretary for Trade Agreements & Compliance.

4. Stacey B. Silva, Executive Director for Trade Promotion & Outreach (new).

5. Ronald A. Glaser, Human Resources Officer, Executive Secretary.

6. Jamie Estrada, Deputy Assistant Secretary for Manufacturing (At-Large, new).

7. Roxie Jones, Office of General Counsel, Department of Commerce (Outside Reviewer, new).

Dated: September 26, 2007.
Rita Clinton,
Acting Human Resources Officer.

[FR Doc. E7-19554 Filed 10-2-07; 8:45 am]

BILLING CODE 3510-25-P